DEPARTMENT OF JUSTICE

Notice of Lodging of Consent Decree Under the Clean Water Act

Notice is hereby given that on September 28, 2011, a proposed Consent Decree (the “Consent Decree”) in United States of America v. Trident Seafoods Corporation, Civil Action No. 11-1616, was lodged with the United States District Court for the Western District of Washington. The case is a civil action under Section 309 of the Clean Water Act, 33 U.S.C. 1319 (“CWA”), for violations of CWA Section 301(a), 33 U.S.C. 1311(a), and violations of the permit conditions and limitations of the National Pollutant Discharge Elimination System (“NPDES”) permits issued to Trident by the EPA under Section 402(a) of the CWA, 33 U.S.C. 1342(a). To resolve Trident's liability, the Consent Decree requires, and Trident has agreed to pay a civil penalty of $2.5 million and to perform specified injunctive measures to reduce its discharge of seafood processing wastes and to address sea floor waste piles created by its discharges.

For thirty (30) days after the date of this publication, the Department of Justice will receive comments relating to the Consent Decree. Comments should be addressed to the Assistant Attorney General, Environment and Natural Resources Division, and either e-mailed to pubcomment-ees.enrd@usdoj.gov or mailed to P.O. Box 7611, U.S. Department of Justice, Washington, DC 20044-7611. In either case, the comments should refer to United States of America v. Trident Seafoods Corporation, DJ. Ref. 90-5-1-1-2002/2.

During the comment period, the Consent Decree may be examined on the following Department of Justice website: http://www.justice.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $12.00 (25 cents per page reproduction cost) payable to the United States Treasury or, if by e-mail or fax, please forward a check in that amount to the Consent Decree Library at the stated address.

Robert E. Maher, Jr.,
Assistant Section Chief, Environmental Enforcement Section, Environment and Natural Resources Division.

[FR Doc. 2011-25450 Filed 10-3-11; 8:45 am]

BILLING CODE 4410-15-P